DEPARTMENT OF THE INTERIOR

National Park Service

[NPS-WASO-NAGPRA-17306; PPWOCRADN0-PCU00RP14.R50000]

Notice of Inventory Completion: History Colorado, formerly Colorado Historical Society, Denver, CO

AGENCY: National Park Service, Interior.

ACTION: Notice.

SUMMARY: History Colorado has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to History Colorado. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to History Colorado at the address in this notice by March 6, 2015.

ADDRESSES: Sheila Goff, History Colorado, 1200 Broadway, Denver, CO 80203, telephone (303) 866-4531, email sheila.goff@state.co.us.

SUPPLEMENTARY INFORMATION: Notice is here given in accordance with the Native American Graves Protection and Repatriation Act (NAGPRA), 25 U.S.C. 3003, of the completion of an inventory of human remains and associated funerary objects under the control of the History Colorado, Denver, CO. The human remains and associated funerary objects were removed from Pueblo County, CO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by History Colorado professional staff in consultation with representatives of the Arapahoe Tribe of the Wind River Reservation, Wyoming; Cheyenne and Arapaho Tribes of Oklahoma (previously listed as the Cheyenne-Arapaho Tribes of Oklahoma); Comanche Nation, Oklahoma; Crow Tribe of Montana; Fort Sill Apache Tribe of Oklahoma; Hopi Tribe of Arizona; Jicarilla Apache Nation, New Mexico; Mescalero Apache Tribe of the Mescalero Reservation, New Mexico; Navajo Nation, Arizona, New Mexico & Utah; Northern Cheyenne Tribe of the Northern Cheyenne Indian Reservation, Montana; Ohkay Owingeh, New Mexico (previously listed as the Pueblo of San Juan); Paiute Indian Tribe of Utah (Cedar Band of Paiutes, Kanosh Band of Paiutes, Koosharem Band of Paiutes, Indian Peaks Band of Paiutes, and Shivwits Band of Paiutes) (formerly the Paiute Indian Tribe of Utah (Cedar City Band of Paiutes, Kanosh Band of Paiutes, Koosharem Band of Paiutes, Indian Peaks Band of Paiutes, and Shivwits Band of Paiutes)); Pawnee Nation of Oklahoma; Pueblo of Acoma, New Mexico; Pueblo of Cochiti, New Mexico; Pueblo of Isleta, New Mexico; Pueblo of Jemez, New Mexico; Pueblo of Laguna, New Mexico; Pueblo of Nambe, New Mexico; Pueblo of Pojoaque, New Mexico; Pueblo of San Ildefonso, New Mexico; Pueblo of Santa Ana, New Mexico; Pueblo of Santa Clara, New Mexico; Pueblo of Tesuque, New Mexico; Rosebud Sioux Tribe of the Rosebud Indian Reservation, South Dakota; Shoshone Tribe of the Wind River Reservation, Wyoming; Southern Ute Indian Tribe of the Southern Ute Reservation, Colorado; Ute Indian Tribe of the Uintah & Ouray Reservation, Utah; Ute Mountain Tribe of the Ute Mountain Reservation, Colorado, New Mexico & Utah; Ysleta Del Sur Pueblo of Texas and Zuni Tribe of the Zuni Reservation, New Mexico. The Apache Tribe of Oklahoma; Kewa Pueblo, New Mexico (previously listed as the Pueblo of Santo Domingo); Kiowa Indian Tribe of Oklahoma; Oglala Sioux Tribe (previously listed as the Oglala Sioux Tribe of the Pine Ridge Reservation, South Dakota); Pueblo of Picuris, New Mexico; Pueblo of Sandia, New Mexico; Pueblo of San Felipe, New Mexico; the Pueblo of Taos, New Mexico; Pueblo of Zia, New Mexico; Shoshone-Bannock Tribes of the Fort Hall Reservation of Idaho; and Standing Rock Sioux Tribe of North & South Dakota were invited to consult but did not participate. Hereafter, all tribes listed above are referred to as “The Consulted and Invited Tribes.”

History and Description of the Remains

In 1967, human remains representing, at minimum, one individual were removed from Clift Swallows Site (5PE1) in Pueblo County, CO. The site was discovered and partially excavated by private citizens. They subsequently contacted Professor William Buckles of Southern Colorado State College (now Colorado State University-Pueblo) who completed their removal. In 1999, the remains were delivered to History Colorado after the closure of the Laboratory of Anthropology at the College. The burial was located in a cleft in rocks in a shallow pit lacking significant deposits above it. The burial was near the confluence of Rush Creek and the Arkansas River. Osteological analysis determined that the remains are of an adult female of Native American ancestry. No known individuals were identified. The four associated funerary objects are one lot of fragments of a woven bag, one piece of braided yucca, one flake and one drill bit tip.

Based on expert opinion, archeological, geographical and historical evidence, and oral tradition, there is a relationship of shared group identity that can be reasonably traced between the Native American human remains and associated funerary objects and the Southern Ute Indian Tribe of the Southern Ute Reservation, Colorado and Ute Mountain Tribe of the Ute Mountain Reservation, Colorado, New Mexico & Utah. Expert opinion of Dr. Buckles concluded that the site where the remains originated most likely dated to the historic period based on the condition of the remains and funerary objects and that it was consistent with Ute burial practices in which the deceased were often placed in clefts in rock. Description of traditional Ute burial practices provided by the Southern Ute Indian Tribe of the Southern Ute Reservation, Colorado and Ute Mountain Tribe of the Ute Mountain Reservation, Colorado, New Mexico & Utah confirm that the individual's burial was consistent with Ute burial practices. The burial was located in the ancestral territory of the Southern Ute Indian Tribe of the Southern Ute Reservation, Colorado, and Ute Mountain Tribe of the Ute Mountain Reservation, Colorado, New Mexico & Utah. Oral tradition and historical documents cited by the Ute Tribes indicate Moache, Capute and Weenuche bands used the area where the remains were discovered on seasonal rounds and for trading and raiding. Descendants from these bands now reside on the Southern Ute and Ute Mountain Ute Reservations. Funerary objects are consistent with Ute culture.

Determinations Made by History Colorado

Officials of History Colorado have determined that:

• Pursuant to 25 U.S.C. 3001(9), the human remains described in this notice represent the physical remains of one individual of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Southern Ute Indian Tribe of the Southern Ute Reservation, Colorado and Ute Mountain Tribe of the Ute Mountain Reservation, Colorado, New Mexico & Utah.

Additional Requestors and Disposition

Lineal descendants or representatives of any Indian tribe or Native Hawaiian organization not identified in this notice that wish to request transfer of control of these human remains and associated funerary objects should submit a written request with information in support of the request to Sheila Goff, History Colorado, 1200 Broadway, Denver, CO 80203, telephone (303) 866-4531, email Sheila.goff@state.co.us, by March 6, 2015. After that date, if no additional requestors have come forward, transfer of control of the human remains and associated funerary objects to the Southern Ute Indian Tribe of the Southern Ute Reservation, Colorado, and Ute Mountain Tribe of the Ute Mountain Reservation, Colorado, New Mexico & Utah may proceed.

History Colorado is responsible for notifying The Consulted and Invited Tribes that this notice has been published.

Dated: December 10, 2014.
Melanie O'Brien,
Acting Manager, National NAGPRA Program.

[FR Doc. 2015-02215 Filed 2-3-15; 8:45 am]

BILLING CODE 4312-50-P